DEPARTMENT OF THE INTERIOR

Bureau of Land Management

[ES-030-1430-EU; WIES-054896]

Notice of Realty Action: Competitive Sale of Public Land in Langlade County, WI

AGENCY: Bureau of Land Management, Interior.

ACTION: Notice of realty action.

SUMMARY: A 1.18 acre parcel of public land located in Langlade County, Wisconsin, is being considered for sale under the provisions of the Federal Land Policy Management Act of 1976 (FLPMA). The Bureau of Land Management (BLM) proposes to sell the land utilizing competitive sale procedures at no less than the appraised fair market value.

DATES: Comments regarding the proposed sale must be received by the Bureau of Land Management-Eastern States (BLM-ES) on or before September 20, 2007. The BLM-ES will accept sealed bids for the offered land from qualified bidders not later than 4:30 p.m. CDT on October 5, 2007.

ADDRESSES: Comments regarding the proposed sale, as well as sealed bids, should be addressed to Timothy O'Brien, Acting Field Manager, Bureau of Land Management-Eastern States, Milwaukee Field Office, 626 East Wisconsin Avenue, Suite 200, Milwaukee, Wisconsin 53202-4617.

FOR FURTHER INFORMATION CONTACT: Information regarding the competitive sale instructions, procedures, documents, maps, and materials to submit a bid can be obtained by contacting Carol Grundman, Realty Specialist, at the above address, by phone at 414-297-4447, or by e-mail at carol_grundman@es.blm.gov.

SUPPLEMENTARY INFORMATION: The following described public land has been examined and found suitable for sale under the provisions of Sections 203 and 209 of the Federal Land Policy Management Act of 1976 (90 Stat. 2750, 43 U.S.C. 1713 and 1719) and implementing regulations at 43 CFR 2710 and 2720:

Fourth Principal Meridian

T. 33 N., R. 10 E.; Sec. 25, lot 17.

The area described contains 1.18 acres in Langlade County.

The BLM Wisconsin Resource Management Plan Amendment dated 2001 identified this parcel of land as suitable for disposal. The purpose of the sale is to dispose of land which is difficult and uneconomic to manage as part of the public lands. The parcel has no legal access via a public road. There are no encumbrances reported on the records maintained by the BLM-ES, Milwaukee Field Office.

The land is being offered for sale using competitive bidding procedures pursuant to 43 CFR 2711.3-1. Interested bidders must submit sealed bids to the BLM-ES, Milwaukee Field Office (address stated above), not later than 4:30 p.m. CDT, on October 5, 2007. Sealed bid envelopes must be clearly marked on the front lower left-hand corner with “SEALED BID BLM LAND SALE WI, WIES-054896, October 5, 2007. The bid envelope must also contain a signed statement showing the total amount of the bid and the name, mailing address, and phone number of the entity making the bid.

Sealed bids will be opened to determine the high bid at 10 a.m. CDT, October 9, 2007 at the BLM-ES, Milwaukee Field Office (address stated above). The highest qualifying bid will be declared the high bid and the high bidder will receive written notice. Bidders submitting matching high bid amounts for the parcel will be provided an opportunity to submit a supplemental sealed bid. The BLM will return checks submitted by unsuccessful bidders by U.S. mail.

Bids must be for not less than the federally appraised fair market value determination of the land. The appraised fair market value will be made available 30 days prior to the sealed bid closing date at the BLM-ES, Milwaukee Field Office (address stated above). Each sealed bid must be accompanied by a certified check, postal money order, bank draft, or cashier's check made payable to the Bureau of Land Management for an amount not less than 20 percent of the total amount of the bid. Personal checks will not be accepted.

The successful bidder will be allowed 180 days from the date of sale to submit the remainder of the full bid price in the form of a certified check, money order, bank draft, or cashier's check made payable to the Bureau of Land Management. Personal checks will not be accepted. Failure to submit the full bid price prior to but not including the 180th day following the day of the sale, will result in the forfeiture of the bid deposit to the BLM, and the parcel will be offered to the second highest qualifying bidder at their original bid. If there are no acceptable bids, the parcel may remain available for sale on a continuing basis in accordance with the competitive sale procedures described in 43 CFR 2711.3-1 without further legal notice. Bids submitted to the BLM will be opened on the first Friday of each month following the initial date of sale at 10 a.m. CDT, in the BLM-ES, Milwaukee Field Office, until the parcel is sold or the offer is cancelled.

Federal law requires that bidders must be (1) United States citizens 18 years of age or older, (2) a corporation subject to the laws of any State or of the United States, (3) an entity including, but not limited to associations or partnerships capable of acquiring and owning real property, or interests therein, under the laws of the State of Wisconsin, or (4) a State, State instrumentality, or political subdivision authorized to hold real property.

The Federal mineral interests underlying this parcel have no known mineral value and will be conveyed with the sale of the parcel. A sealed bid for the above described parcel constitutes an application for conveyance of those mineral interests. In addition to the full purchase price, a successful bidder must pay a separate nonrefundable filing fee of $50 for the mineral interests to be conveyed simultaneously with the sale of the land.

Segregation: Publication of this Notice in the Federal Register segregates the subject land from appropriation under the pubic land laws, except sale under the provisions of the Federal Land Policy and Management Act of 1976. The segregation will terminate upon issuance of patent, upon publication in the Federal Register of a termination of the segregation, or on August 6, 2009 unless extended by the BLM State Director in accordance with 43 CFR 2711.1-2(d) prior to the termination date.

Terms and Conditions of Sale: Upon successful completion of the sale, the patent issued would contain the following reservations, covenants, terms and conditions:

1. The parcel is subject to valid existing rights.

2. Pursuant to the requirements established by Section 120 (h) of the Comprehensive Environmental Response Compensation and Liability Act (CERCLA), [42 U.S.C. 9620(h)], as amended by the Superfund Amendments and Reauthorization Act of 1988, (100 Stat. 1670), notice is hereby given that the above-described lands have been examined and no evidence was found to indicate that any hazardous substances has been stored for one year or more, nor had any hazardous substances been disposed of or released on the subject property.

3. The purchaser/patentee, by accepting the patent, agrees to indemnify, defend, and hold the United States harmless from any costs, damages, claims, causes of action, penalties, fines, liabilities, and judgments of any kind or nature arising from the past, present, and future acts or omissions of the patentees, their employees, agents, contractors, or lessees, or any third-party, arising out of or in connection with the patentees use, occupancy, or operations on the patented real property. This indemnification and hold harmless agreement includes, but is not limited to, acts and omissions of the patentees and their employees, agents, contractors, or lessees, or any third party, arising out or in connection with the use and/or occupancy of the patented real property which has already resulted or does hereafter result in: (1) Violations of Federal, state, and local laws and regulations that are now, or may in the future become applicable to the real property; (2) Judgments, claims or demands of any kind assessed against the United States; (3) Costs, expenses, or damage of any kind incurred by the United States; (4) Releases or threatened releases of solid or hazardous waste(s) and/or hazardous substances, as defined by Federal or State environmental laws, off, on, into or under land, property and other interests of the United States; (5) Activities by which solids or hazardous substances or waste, as defined by Federal and State environmental laws are generated, released, stored, used or otherwise disposed of on the patented real property, and any cleanup response, remedial action or other actions related in any manner to said solid or hazardous substances or wastes; or (6) Natural resource damages as defined by Federal and state law. This covenant shall be construed as running with the parcel of land patented or otherwise conveyed by the United States, and may be enforced by the United States in a court of competent jurisdiction.

No warranty of any kind, expressed or implied, is given by the United States as to the title, physical condition or potential uses of the land proposed for sale, and the conveyance will not be on a contingency basis. It is the buyer's responsibility to be aware of all applicable local government policies and regulations that may affect the subject land or its future uses. It is also the buyer's responsibility to be aware of existing or prospective uses of nearby properties. Any land lacking access from a public road or highway will be conveyed as such, and future access acquisition will be the responsibility of the buyer.

For a period until September 20, 2007 interested parties and the general public may submit in writing any comments concerning the land being considered for sale, including notification of any encumbrances or other claims relating to the identified land, to Timothy O'Brien, Acting Field Manager, BLM-ES, Milwaukee Field Office (address stated above). Comments transmitted via e-mail or facsimile will not be considered. Comments will be available for public review at the BLM-ES, Milwaukee Field Office during regular business hours, except Federal holidays. Before including your address, phone number, e-mail address, or other personal identifying information in your comment, you should be aware that your entire comment—including your personal identifying information—may be made publicly available at any time. While you can ask us in your comment to withhold your personal identifying information from public review, we cannot guarantee that we will be able to do so.

Timely received adverse comments will be reviewed by the State Director, Eastern States, Bureau of Land Management who may sustain, vacate, or modify this realty action. In the absence of timely adverse comments, this realty action will become the final determination of the Department of the Interior.

(Authority: 43 CFR 2711.1-2)

Timothy P. O'Brien,
Acting Field Manager, Milwaukee Field Office.

[FR Doc. E7-15223 Filed 8-3-07; 8:45 am]

BILLING CODE 4310-PN-P